DEPARTMENT OF COMMERCE

National Oceanic and Atmospheric Administration

[RTID 0648-XC815]

Takes of Marine Mammals Incidental to Specified Activities; Taking Marine Mammals Incidental to the Replacement of Pier 3 at Naval Station Norfolk in Norfolk, Virginia

AGENCY: National Marine Fisheries Service (NMFS), National Oceanic and Atmospheric Administration (NOAA), Commerce.

ACTION: Notice; request for comments on proposed renewal incidental harassment authorization (IHA).

SUMMARY: NMFS received a request from the United States Department of the Navy for the renewal of their currently active incidental harassment authorization (IHA) to take marine mammals incidental to the replacement of Pier 3 at Naval Station Norfolk in Norfolk, Virginia. These activities are identical to those covered in the current authorization. Pursuant to the Marine Mammal Protection Act, prior to issuing the currently active IHA, NMFS requested comments on both the proposed IHA and the potential for renewing the initial authorization if certain requirements were satisfied. The renewal requirements have been satisfied, and NMFS is now providing an additional 15-day comment period to allow for any additional comments on the proposed renewal not previously provided during the initial 30-day comment period.

DATES: Comments and information must be received no later than March 29, 2023.

ADDRESSES: Comments should be addressed to Jolie Harrison, Chief, Permits and Conservation Division, Office of Protected Resources, National Marine Fisheries Service, and should be submitted via email to ITP.taylor@noaa.gov.

Instructions: NMFS is not responsible for comments sent by any other method, to any other address or individual, or received after the end of the comment period. Comments, including all attachments, must not exceed a 25-megabyte file size. Attachments to comments will be accepted in Microsoft Word or Excel or Adobe PDF file formats only. All comments received are a part of the public record and will generally be posted online at https://www.fisheries.noaa.gov/permit/incidental-take-authorizations-under-marine-mammal-protection-act without change. All personal identifying information (e.g., name, address) voluntarily submitted by the commenter may be publicly accessible. Do not submit confidential business information or otherwise sensitive or protected information.

FOR FURTHER INFORMATION CONTACT: Jessica Taylor Office of Protected Resources, NMFS, (301) 427-8401. Electronic copies of the original application, renewal request, and supporting documents (including NMFS Federal Register notices of the original proposed and final authorizations, and the previous IHA), as well as a list of the references cited in this document, may be obtained online at: https://www.fisheries.noaa.gov/permit/incidental-take-authorizations-under-marine-mammal-protection-act. In case of problems accessing these documents, please call the contact listed above.

SUPPLEMENTARY INFORMATION:

Background

The Marine Mammal Protection Act (MMPA) prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, an incidental harassment authorization is issued.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation measures”). Monitoring and reporting of such takings are also required. The meaning of key terms such as “take,” “harassment,” and “negligible impact” can be found in section 3 of the MMPA (16 U.S.C. 1362) and the agency's regulations at 50 CFR 216.103.

NMFS' regulations implementing the MMPA at 50 CFR 216.107(e) indicate that IHAs may be renewed for additional periods of time not to exceed 1 year for each reauthorization. In the notice of proposed IHA for the initial authorization, NMFS described the circumstances under which we would consider issuing a renewal for this activity, and requested public comment on a potential renewal under those circumstances. Specifically, on a case-by-case basis, NMFS may issue a one-time 1-year renewal IHA following notice to the public providing an additional 15 days for public comments when (1) up to another year of identical, or nearly identical, activities as described in the Detailed Description of Specified Activities section of the initial IHA issuance notice is planned or (2) the activities as described in the Description of the Specified Activities and Anticipated Impacts section of the initial IHA issuance notice would not be completed by the time the initial IHA expires and a renewal would allow for completion of the activities beyond that described in the DATES section of the notice of issuance of the initial IHA, provided all of the following conditions are met:

1. A request for renewal is received no later than 60 days prior to the needed renewal IHA effective date (recognizing that the renewal IHA expiration date cannot extend beyond 1 year from expiration of the initial IHA).

2. The request for renewal must include the following:

• An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take).

• A preliminary monitoring report showing the results of the required monitoring to date and an explanation showing that the monitoring results do not indicate impacts of a scale or nature not previously analyzed or authorized.

3. Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: www.fisheries.noaa.gov/national/marine-mammal-protection/incidental-harassment-authorization-renewals. Any comments received on the potential renewal, along with relevant comments on the initial IHA, have been considered in the development of this proposed IHA renewal, and a summary of agency responses to applicable comments is included in this notice. NMFS will consider any additional public comments prior to making any final decision on the issuance of the requested renewal, and agency responses will be summarized in the final notice of our decision.

National Environmental Policy Act

This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS determined that the issuance of the initial IHA qualified to be categorically excluded from further NEPA review. NMFS has preliminarily determined that the application of this categorical exclusion remains appropriate for this renewal IHA.

History of Request

On March 15, 2022, NMFS issued an IHA to the United States Navy (Navy) to take marine mammals incidental to the replacement of Pier 3 at Naval Station Norfolk in Norfolk, Virginia (87 FR 15945), effective from April 1, 2022 through March 31, 2023. On July 29, 2022, NMFS received a request from the Navy for a modification to the Pier 3 replacement project IHA due to a change in the construction contractor's plan to include concurrent pile driving and drilling activities, and a modified IHA was issued to the Navy on January 18, 2023 (88 FR 2880). Hereafter, any references to the initial IHA (as modified) refer to the modified IHA issued on January 18, 2023, while the 2022 IHA will be referred to as the 2022 initial IHA. On February 23, 2023, NMFS received a request for the renewal of the initial IHA (as modified). After discussion with the Navy, NMFS received a final revised request to renew the initial IHA (as modified) on March 7, 2023. As described in that request, the activities for which incidental take is requested consist of a subset of the identical activities covered in the initial authorization (as modified). As required, the applicant also provided a preliminary monitoring report which confirms that the applicant has implemented the required mitigation and monitoring, and which also shows that no impacts of a scale or nature not previously analyzed or authorized have occurred as a result of the activities conducted.

Description of the Specified Activities and Anticipated Impacts

The Navy is replacing Pier 3 at Naval Station (NAVSTA) Norfolk in Norfolk, VA. The existing Pier 3 is being demolished and a new Pier 3 will be constructed immediately north of the existing location (see Figure 1 in the Federal Register notice for the proposed 2022 initial IHA; 87 FR 3976, January 26, 2022). Work at Pier 4, Pier 3T, and the bulkheads associated with Pier 3 and 3T is necessary to support the Pier 3 replacement. Pier 3 has been in a deteriorated state and does not provide minimum operation requirements for NAVSTA Norfolk. In-water work associated with Pier 4, including timber pile removal and concrete pile installation, has been completed under the 2022 initial IHA. In addition, concrete pile removal at Pier 3T will be completed by the expiration of the initial IHA. However, in-water work associated with construction of the CEP-176 and CEP-175 bulkheads, the CEP-102 bulkhead and relieving platform, and the new Pier 3, as well as installation of piles necessary for Pier 3T, will not be completed by the expiration date of the initial IHA (as modified). During the renewal period, the activities that would occur are the same as previously analyzed under the initial IHA (as modified). These activities include the installation of 42-inch (1.07 meters (m)) steel pipe piles, 28-inch (0.71 m) steel sheet piles, 13-inch (0.33 m) polymeric piles, and 24-inch (0.61 m) precast concrete piles. Pre-drilling may be used to set the piles to depth. The remaining in-water construction associated with these activities is planned to occur from April 1, 2023 through June 30, 2023.

Under the 2022 initial IHA, Level A and Level B harassment resulting from pile driving and drilling activities was authorized for harbor seals (Phoca vitulina), gray seals (Halichoerus grypus), and harbor porpoises (Phocoena phocoena). Level B harassment only resulting from pile driving and drilling activities was authorized for bottlenose dolphins (Tursiops truncatus) and humpback whales (Megaptera novaeangliae). Neither the Navy nor NMFS expects serious injury or mortality to result from this activity and, therefore, a renewal IHA is appropriate.

The following documents are referenced in this notification and include important supporting information:

• 2023 final initial IHA (as modified) (88 FR 2880, January 18, 2023);

• 2023 proposed initial IHA (as modified) (87 FR 75600, December 9, 2022);

• 2022 final initial IHA (87 FR 15945, March 21, 2022); and

• 2022 proposed initial IHA (87 FR 3976, January 26, 2022).

The 2022 initial IHA application, IHA modification request, 2022 initial IHA, initial IHA (as modified), and references are available at https://www.fisheries.noaa.gov/action/incidental-take-authorization-replacement-pier-3-naval-station-norfolk-norfolk-virginia.

Detailed Description of the Activity

A detailed description of the construction activities is found in the Federal Register notice associated with the issuance of the 2022 initial IHA (87 FR 3976, January 26, 2022). A description of the concurrent pile driving activities associated with the initial IHA (as modified) is described in the Federal Register notice of issuance of the initial IHA (88 FR 2880, January 18, 2023). The location, timing, and nature of the activities, including the types of equipment planned for use, are identical to those described in the previous notices.

At the time of the renewal request, the following individual activities have been completed for the following structures:

• Pier 4

○ Vibratory removal of 36 14-inch timber piles; and

○ Pre-drilling and impact installation of 36 24-inch precast concrete square piles.

• Pier 3T

○ Vibratory removal of 87 14-inch timber piles; and

○ Vibratory removal of 196 18-inch precast concrete square piles.

At the time of the renewal request, the following concurrent activities have been completed for the following structures:

• Pier 3T and Pier 4

○ Vibratory removal of 14-inch timber and 18-inch concrete piles and impact installation of 24-inch concrete piles; and

○ Vibratory removal of 14-inch timber and 18-inch concrete piles and rotary drill of 24-inch concrete piles, with 90 concrete piles remaining as noted about for Pier 3T.

• Pier 3T and Pier 3

○ Vibratory removal of 14-inch timber and 18-inch concrete piles and impact installation of 24-inch concrete piles, with four concrete piles remaining to be installed.

In-water individual activities that are planned for completion for the following structures under this proposed renewal IHA are shown in Table 1 while in-water concurrent activities that are planned for completion under this proposed renewal IHA are shown in Table 2.

Table 1—In-Water Individual Construction Activities Planned for Completion Under the Renewal IHA
Structure | Pile size/type | Method | Number of piles | Number of piles per day | Total number of days
CEP-176 Bulkhead | 42-inch steel pipe pile | Impact or Vibratory Install | 80 | 4 | 20
| 28-inch steel sheet piles |  | 160 | 14 | 12
CEP-175 Bulkhead | 13-inch polymeric piles | Impact or Vibratory Install ¹ | 18 | 5 | 4
CEP-102 Platform | 18-inch concrete piles | Vibratory Removal | 11 | 4 | 3
| 14-inch timber piles |  | 9 | 4 | 3
| 13-inch polymeric piles |  | 4 | 4 | 1
| 24-inch precast concrete piles | Impact Install ¹ | 6 | 2 | 3
| 42-inch steel pipe piles | Impact or Vibratory Install | 4 | 2 | 2
| 28-inch steel sheet piles |  | 8 | 4 | 2
| 24-inch precast concrete piles | Impact Install ¹ | 11 | 2 | 6
Pier 3 | 24-inch precast concrete piles | Impact Install | 270 | 4 | 68
¹ Pre-drilling may be used to assist with pile installation. Represents estimated construction schedule as delays may occur due to equipment failure or weather.

Table 2—In-Water Concurrent Construction Activities Planned for Completion Under the Renewal IHA
Pile size/type/method | Number of piles | Number of piles per day | Total number of days
Vibratory removal of 18-inch concrete piles at Pier 3T and vibratory install of 42-inch steel pipe piles at either CEP-176 or CEP-102 | 90 18-inch concrete piles; 113 42-inch steel pipe piles | 4 18-inch concrete piles; 4 42-inch steel piles | 26
Vibratory removal of 18-inch concrete piles at Pier 3T and rotary drill ¹ for 24-inch concrete piles at Pier 3 | 90 18-inch concrete piles; 36 24-inch rotary drilling piles | 4 18-inch concrete piles; 6 24-inch concrete piles | 13
¹ Pre-drilling.

The proposed renewal IHA would be effective from April 1, 2023 through March 31, 2024 and in-water construction activities are planned for 90 days from April 1 through June 30, 2023. Of these 90 days, 39 days are planned for concurrent activities.

Description of Marine Mammals

A description of the marine mammals in the area of the activities for which authorization of take is proposed here, including information on abundance, status, distribution, and hearing, may be found in the notice of the proposed IHA for the initial authorization (87 FR 3976, January 26, 2022). NMFS has reviewed the monitoring data from the initial IHA (as modified), recent draft Stock Assessment Reports, information on relevant Unusual Mortality Events, and other scientific literature, and determined that neither this nor any other new information affects which species or stocks have the potential to be affected or the pertinent information in the Description of the Marine Mammals in the Area of Specified Activities contained in the supporting documents for the 2022 initial IHA. The only changes indicated in the draft 2022 SARs are that the Potential Biological Removal value for the gray seal Western North Atlantic stock increased from 1,389 to 1,458, annual mortality and serious injury of the harbor porpoise Gulf of Maine/Bay of Fundy stock decreased from 217 to 164, and humpback whale Gulf of Maine stock is no longer considered a strategic stock.

Potential Effects on Marine Mammals and Their Habitat

A description of the potential effects of the specified activity on marine mammals and their habitat for the activities for which the authorization of take is proposed here may be found in the notices of the proposed IHA for the 2022 initial authorization. NMFS has reviewed the monitoring data from the initial IHA (as modified), recent draft Stock Assessment Reports, information on relevant Unusual Mortality Events, and other scientific literature, and determined that neither this nor any other new information affects our initial analysis of impacts on marine mammals and their habitat.

Estimated Take

A detailed description of the methods and inputs used to estimate take for the specified individual activity are found in the notices of the proposed and final IHAs for the initial authorization (87 FR 3976, January 26, 2022; 87 FR 15945, March 21, 2022) and for the specified concurrent activities, in the notices of the proposed and final initial IHAs (as modified) (87 FR 75600, December 9, 2022; 88 FR 2880, January 18, 2023). Activities proposed under the renewal authorization would be subject to the same sound propagation boundaries as those analyzed for the 2022 initial IHA and initial IHA (as modified). The analysis of sound source level and sound pressure level (SPL) propagation provided in the 2022 initial IHA and initial IHA (as modified) would remain applicable to the activities covered in the proposed renewal IHA. Marine mammal density/occurrence data applicable to this authorization remain unchanged from the 2022 initial IHA.

Similarly, the stocks taken, methods of take, and types of take remain unchanged from the previously issued initial IHA. The take calculation method also remains the same, with the exception of fewer days of activity than what was described in the initial IHA. The approximate total number of operational days for this proposed renewal IHA is 90 days as compared to the 280 days required for the project under the initial IHA. The number of takes proposed to be authorized for the renewal IHA are indicated below in Table 3.

The total take number for bottlenose dolphins was estimated using inshore seasonal densities provided in Engelhaupt et al. (2016) from vessel line-transect surveys near NAVSTA Norfolk and adjacent areas near Virginia Beach, Virginia from August 2012 through August 2015. This density includes sightings inshore of the Chesapeake Bay from NAVSTA Norfolk west to the Thimble Shoals Bridge, and is the most representative density for the project area. NMFS multiplied the density of 1.38 dolphins per square kilometer by the Level B harassment zone area for each activity for the project, and then by the number of days associated with that activity (see Table 1). The Level B harassment zones increased as a result of concurrent pile driving activities; therefore, calculated Level B harassment exposure estimates also increased as a result. As described in the notice of the initial proposed and issued IHA, there is insufficient information on relative abundance to apportion the takes precisely to each of the three stocks in the area. Therefore, the same approach as used in previous projects (e.g., Hampton Roads Bridge Tunnel project (86 FR 17458, April 2, 2021), and the U.S. Navy Norfolk Maintenance Rule (86 FR 24340, May 6, 2021)) was used to estimate the appointment of takes to each of the three bottlenose dolphin stocks that may be present in the area. Given that most of the Northern North Carolina Estuarine Stock (NNCES) are found in the Pamlico Sound Estuary, over 160 kilometers from Norfolk, we conservatively estimated that no more than 200 of the requested takes will be from this stock. Since members of the northern migratory coastal and southern migratory coastal stocks are thought to occur in or near the Bay in greater numbers, we conservatively assume that no more than half of the remaining takes will accrue to either of these stocks. Additionally, a subset of these takes would likely be comprised of the Chesapeake Bay resident dolphins, although the size of that population is unknown.

Based upon the methodology for estimating take for the initial IHA (as modified) (88 FR 2880, January 18, 2023), the Navy calculated potential exposure to Level A harassment for gray seals by assuming twenty percent of authorized take would be by Level A harassment. As only one take is estimated to occur under the renewal IHA, we assume that individual take will be by Level B harassment. Therefore, the Navy did not request, and NMFS does not propose to authorize, take by Level A harassment for gray seals.

The total taking by Level B harassment of all species is predicted to be the same or lower with concurrent activity scenarios due to a lower number of construction days for concurrent activities; therefore, the proposed authorized take from individual activities represents the most conservative take estimate.

Table 3—Estimated Take Proposed for Authorization and Proportion of Population Potentially Affected
Species | Stock | Individual activities: Level A | Individual activities: Level B | Concurrent activities: Level A | Concurrent activities: Level B | Percent of stock ¹
Bottlenose dolphin | Western North Atlantic Coastal, Northern Migratory | 0 | 1,281 | 0 | 486 | ² 19.3
| Western North Atlantic Coastal, Southern Migratory |  | 1,280 |  | 485 | ² 34.1
| Northern North Carolina Estuarine |  | 200 |  | 200 | ² 24.3
Harbor seal | Western North Atlantic | 57 | 759 | 53 | 478 | 1.33
Gray seal | Western North Atlantic | 0 | 1 | 0 | 1 | 0.004
Harbor porpoise | Gulf of Maine/Bay of Fundy | 2 | 2 | 0 | 2 | 0.004
Humpback whale | Gulf of Maine | 0 | 4 | 0 | 2 | 0.29
¹ Percent of stock calculation based upon the largest take calculation from either individual or concurrent activities.
² Assumes multiple repeated takes of same individuals from a small portion of each stock.

Description of Proposed Mitigation, Monitoring, and Reporting Measures

The proposed mitigation, monitoring, and reporting measures included as requirements in this authorization are identical to those included in the FR notice announcing the issuance of the 2022 initial IHA (87 FR 15945, March 21, 2022) for individual activities and the FR notice announcing the issuance of the initial IHA (as modified) (88 FR 2880, January 18, 2023) for concurrent activities, and the discussion of the least practicable adverse impact included in that document remains accurate. The same measures are proposed for this renewal and are summarized here:

• The Navy must implement shutdown zones for all pile driving and removal and drilling activities. Shutdown zones would vary based upon the activity type and marine mammal hearing group, as shown in Table 4 for individual activities and Table 5 for concurrent activities. The Navy must shut down if any marine mammals come within hearing group-specific shutdown zones;

• The Navy must implement impact pile driving soft-starts at the beginning of each day's impact pile driving and at any time following cessation of impact pile driving for a period of 30 minutes or more. To implement soft-start, contractors would be required to provide an initial set of three strikes from the hammer at reduced energy, followed by a 30-second waiting period, then two subsequent reduced energy strike sets.

• Protected Species Observers (PSOs) must monitor the entirety of all shutdown zones as well as Level B harassment zones to the extent practicable during all pile driving and removal and drilling activities. Monitoring must be conducted by a minimum of two PSOs for impact driving, and a minimum of three PSOs for vibratory and drilling activities;

• Pre-activity monitoring must begin prior to the start of daily in-water construction activities or whenever a break in pile driving/removal of 30 minutes or longer occurs. Pre-activity and post-activity monitoring must take place for a period of 30 minutes prior to beginning construction activities and after construction activities are complete for the day;

• Acoustic monitoring shall include two underwater positions as well as be conducted in accordance with NMFS guidance for 10 percent of each type of activity that has not previously been monitored at NAVSTA Norfolk (see Table 6);

• The Navy must submit draft marine mammal and acoustic monitoring reports to NMFS within 90 days after the completion of pile driving and removal and drilling activities under the renewal IHA;

• The Navy must prepare and submit final monitoring reports within 30 days following resolution of comments on the draft reports from NMFS;

• The Navy must submit all PSO datasheets and/or raw sighting data (in a separate file from the Final Report referenced immediately above); and

• The Navy must report injured or dead marine mammals.

Table 4—Shutdown and Harassment Zones for Individual Pile Driving Activities
Pile size, type, and method | Minimum shutdown zone (m): Humpback whale | Minimum shutdown zone (m): Porpoises | Minimum shutdown zone (m): All other species | Harassment zone (m) ¹
Impact Driving, 42-inch Steel Pipe Pile | 1,005 | 500 | 200 | 1,000
Vibratory Driving, 42-inch Steel Pipe Pile | 50 | 120 | 50 | 15,850
Impact Driving, 28-inch Steel Sheet Piles | 775 | 500 | 200 | 2,520
Vibratory Driving, 28-inch Steel Sheet Piles | 65 | 65 | 65 | 13,600
Impact Driving, 13-inch Polymeric Piles | 30 | 30 | 30 | 10
Vibratory Driving, 13-inch Polymeric Piles | 30 | 30 | 30 | 6,310
Impact Driving, 24-inch Concrete Piles | 160 | 500 | 200 | 120
Vibratory Driving, 24-inch Concrete Piles | 10 | 10 | 10 | 1,850
¹ Rounded to the nearest 10 m.

Table 5—Shutdown and Harassment Zones for Concurrent Pile Driving Activities
Pile sizes, type, and method | Minimum shutdown zone (m): Humpback whale | Minimum shutdown zone (m): Porpoises | Minimum shutdown zone (m): All other species | Harassment zone (m) ¹
Vibratory removal 18-inch concrete piles and vibratory installation 42-inch steel pipe piles | 200 | 200 | 50 | 18,480
Vibratory removal 18-inch concrete piles and pre-drilling for preparation of 24-in concrete pile install | 45 | 45 | 30 | 7,360
¹ Rounded to the nearest 10 m.

Table 6—Acoustic Monitoring Summary ¹
Pile type | Count | Method of install/removal | Number monitored
13-inch polymeric | 9 | Vibratory | 5
13-inch polymeric | 9 | Impact | 5
13-inch polymeric | 9 | Drilling | 5
24-inch concrete | 11 | Impact | 10
42-inch steel pipe | 103 | Impact | 10
42-inch steel pipe | 103 | Vibratory | 10
28-inch steel sheet | 221 | Impact | 10
28-inch steel sheet | 221 | Vibratory | 10
¹ Acoustic monitoring will be conducted for activities for which measurements are needed.

Comments and Responses

As noted previously, NMFS published a notice of a proposed IHA (87 FR 3976, January 26, 2022) and solicited public comments on both our proposal to issue the initial IHA for pile driving and drilling activities, and on the potential for a renewal IHA, should certain requirements be met. No public comments were received.

Preliminary Determinations

The proposed renewal request consists of a subset of activities analyzed through the initial IHA and initial IHA (as modified) described above. In analyzing the effects of the activities for the initial IHA, NMFS determined that the Navy's activities would have a negligible impact on the affected species or stocks and that authorized take numbers of each species or stock were small relative to the relevant stocks (e.g., less than one-third the abundance of all stocks). No new information is available that affects NMFS' determinations in support of a renewal of the initial IHA (as modified). The mitigation measures and monitoring and reporting requirements as described above are identical to the initial IHA (as modified).

NMFS has preliminarily concluded that there is no new information suggesting that our analysis or findings should change from those reached for the initial IHA (as modified). Based on the information and analysis contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; (4) the Navy's activities will not have an unmitigable adverse impact on taking for subsistence purposes as no relevant subsistence uses of marine mammals are implicated by this action, and; (5) appropriate monitoring and reporting requirements are included.

Endangered Species Act

Section 7(a)(2) of the Endangered Species Act of 1973 (ESA; 16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we propose to authorize take for endangered or threatened species.

No incidental take of ESA-listed species is proposed for authorization or expected to result from this activity. Therefore, NMFS has determined that formal consultation under section 7 of the ESA is not required for this action.

Proposed Renewal IHA and Request for Public Comment

As a result of these preliminary determinations, NMFS proposes to issue a renewal IHA to the Navy for conducting pile driving and drilling activities at NAVSTA Norfolk in Norfolk, VA effective through March 31, 2024, provided the previously described mitigation, monitoring, and reporting requirements are incorporated. A draft of the 2022 proposed and final initial IHA as well as proposed and final initial IHA (as modified) can be found at https://www.fisheries.noaa.gov/action/incidental-take-authorization-replacement-pier-3-naval-station-norfolk-norfolk-virginia. We request comment on our analyses, the proposed renewal IHA, and any other aspect of this notice. Please include with your comments any supporting data or literature citations to help inform our final decision on the request for MMPA authorization.

Dated: March 9, 2023.
Kimberly Damon-Randall,
Director, Office of Protected Resources, National Marine Fisheries Service.

[FR Doc. 2023-05157 Filed 3-9-23; 4:15 pm]

BILLING CODE 3510-22-P